DEPARTMENT OF TRANSPORTATION

[NHTSA-2009-0104]

National Highway Traffic Safety Administration

Reports, Forms, and Recordkeeping Requirements Agency Information Collection Activity Under OMB Review

AGENCY: National Highway Traffic Safety Administration (NHTSA), Department of Transportation.

ACTION: Notice.

SUMMARY: In compliance with the Paperwork Reduction Act of 1995 (44 U.S.C. 3501 et seq.), this notice announces that the Information Collection Request (ICR) abstracted below has been forwarded to the Office of Management and Budget (OMB) for review and comment. The ICR describes the nature of the information collections and their expected burden. The Federal Register Notice with a 60-day comment period was published on March 12, 2009 (74 FR 10804).

DATES: Comments must be received on or before July 23, 2009.

FOR FURTHER INFORMATION CONTACT: David Bonelli, Office of Chief Counsel, NCC-113, telephone (202) 366-1834, fax (202) 366-3820; NHTSA, 1200 New Jersey Avenue, SE., Washington, DC 20590.

SUPPLEMENTARY INFORMATION: Title: Designation of Agent for Service of Process.

OMB Control Number: 2127-0040.

Requested Expiration Date of Approval: Three years from the approval date.

Type of Request: Extension of a previously approved collection.

Affected Public: Business or other for-profit.

Form Number: N/A.

Abstract: This collection of information applies to motor vehicle and motor vehicle equipment manufacturers located outside of the United States (“foreign manufacturers”). Section 110(e) of the National Traffic and Motor Vehicle Safety Act of 1966 (49 U.S.C. 30164) requires a foreign manufacturer offering a motor vehicle or motor vehicle equipment for importation into the United States to designate a permanent resident of the United States as its agent upon whom service of notices and processes may be made in administrative and judicial proceedings. These designations are required to be filed with NHTSA. NHTSA requires this information in case it needs to advise a foreign manufacturer of a safety related defect in its products so that the manufacturer can, in turn, notify purchasers and correct the defect. This information also enables NHTSA to serve a foreign manufacturer with all administrative and judicial processes, notices, orders, decisions and requirements.

When NHTSA amended the regulation implementing that statutory requirement, codified at 49 CFR part 551, subpart D, NHTSA included an appendix containing a suggested designation form for use by foreign manufacturers and their agents. The purpose of the suggested designation format was to simplify the information collection and submission process, and thereby reduce the burden imposed on each covered manufacturer by 49 CFR part 551, subpart D. To further streamline the information collection process, NHTSA has set up a customer Web site that may be accessed at http://www.nhtsa.dot.gov/cars/rules/manufacture/agent/customer.html.

Estimated Annual Burden: 120 hours.

Estimated Number of Respondents: 240 respondents.

ADDRESSES: Send comments, within 30 days, to the Office of Information and Regulatory Affairs, Office of Management and Budget, 725-17th Street, NW., Washington, DC 20503, Attention NHTSA Desk Officer.

The Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

Issued on: June 17, 2009.
John Donaldson,
Assistant Chief Counsel, Legislation and General Law.

[FR Doc. E9-14681 Filed 6-22-09; 8:45 am]

BILLING CODE P